DEPARTMENT OF TRANSPORTATION

Federal Aviation Administration

14 CFR Part 39

[Docket No. FAA-2017-0622; Product Identifier 2016-NM-192-AD; Amendment 39-19120; AD 2017-25-06]

RIN 2120-AA64

Airworthiness Directives; Airbus Airplanes

AGENCY: Federal Aviation Administration (FAA), Department of Transportation (DOT).

ACTION: Final rule.

SUMMARY: We are adopting a new airworthiness directive (AD) for certain Airbus Model A318 and A319 series airplanes; Model A320-211, -212, -214, -231, -232, and -233 airplanes; and Model A321-111, -112, -131, -211, -212, -213, -231, and -232 airplanes. This AD was prompted by reports of a vertical strut penetrating through the cabin floor during an emergency water landing and on airframe ground contact at certain speeds/accelerations. This AD requires modification of the fuselage structure at a certain frame. We are issuing this AD to address the unsafe condition on these products.

DATES: This AD is effective January 16, 2018.

The Director of the Federal Register approved the incorporation by reference of certain publications listed in this AD as of January 16, 2018.

ADDRESSES: For service information identified in this final rule, contact Airbus, Airworthiness Office-EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0622.

Examining the AD Docket

You may examine the AD docket on the Internet at http://www.regulations.gov by searching for and locating Docket No. FAA-2017-0622; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone: 425-227-1405; fax: 425-227-1149.

SUPPLEMENTARY INFORMATION:

Discussion

We issued a notice of proposed rulemaking (NPRM) to amend 14 CFR part 39 by adding an AD that would apply to certain Airbus Model A318 and A319 series airplanes; Model A320-211, -212, -214, -231, -232, and -233 airplanes; and Model A321-111, -112, -131, -211, -212, -213, -231, and -232 airplanes. The NPRM published in the Federal Register on June 23, 2017 (82 FR 28596) (“the NPRM”). The NPRM was prompted by reports of a vertical strut penetrating through the cabin floor during an emergency water landing and on airframe ground contact at certain speeds/accelerations. The NPRM proposed to require modification of the fuselage structure at frame (FR) 65. We are issuing this AD to prevent the central vertical strut at FR65 from penetrating through the cabin floor in certain conditions, which could lead to injury of occupants and delays during an emergency evacuation.

The European Aviation Safety Agency (EASA), which is the Technical Agent for the Member States of the European Union, has issued EASA AD 2016-0212, dated October 25, 2016 (referred to after this as the Mandatory Continuing Airworthiness Information, or “the MCAI”), to correct an unsafe condition for certain Airbus Model A318 and A319 series airplanes; Model A320-211, -212, -214, -231, -232, and -233 airplanes; and Model A321-111, -112, -131, -211, -212, -213, -231, and -232 airplanes. The MCAI states:

In service occurrences were reported where, as a consequence [during an emergency water landing and] of an airframe ground contact above certified vertical speed/vertical acceleration, the vertical strut at Frame (FR) 65 penetrated through the cabin floor.

This condition, if not corrected, could lead to injury of occupants and/or delays during emergency evacuation.

To address this potential unsafe condition, Airbus developed mod 153724, a structural change which prevents the central vertical strut at FR65 to pass through the cabin floor, and issued Service Bulletin (SB) A320-53-1262 to provide instructions for installation of this modification on aeroplanes in service. After SB A320-53-1262 was issued, incorrect MSN [manufacturer serial number] allocations and configuration definitions were identified in it. Consequently Airbus revised that SB, and in addition issued SB A320-53-1333 and SB A320-53-1334.

For the reason described above, this [EASA] AD requires modification of the fuselage structure at FR65.

You may examine the MCAI in the AD docket on the Internet at http://www.regulations.gov by searching for and locating Docket No. FAA-2017-0622.

Comments

We gave the public the opportunity to participate in developing this AD. The following presents the comments received on the NPRM and the FAA's response to each comment.

Request for Different Method of Compliance for Foam Tape

United Airlines (UAL) requested that we include an exception to allow the use of a different foam tape that better meets the needs of its fleet. UAL mentioned that the purpose of the tape is to reduce vibration and prevent chafing from the floor panels, and that the location is considered a “wet” area of the aft cabin that is susceptible to corrosion. UAL also stated that the tape specified does not meet its corrosion prevention and control program (CPCP) standards, and that the tape can retain moisture and may not adequately seal between the floor panel and floor support structure. UAL indicated that protecting the floor beams from moisture ingress has been an ongoing effort on its fleet through the CPCP committee and that due to corrosion reports UAL uses a different foam tape on all floor support structure in the cabin “wet” areas. UAL pointed out that it has benefited from superior corrosion protection due to using the different foam tape and stressed its continual commitment to monitoring and evaluating new products and procedures for the aft cabin “wet” areas.

UAL also requested that we provide an exception to the “RC” (Required for Compliance) specification associated with installation of the foam tape.

We agree to include an exception for the reasons provided. We have added paragraph (h), “Service Information Exceptions,” to this AD and redesignated subsequent paragraphs accordingly. In paragraph (h)(1) of this AD, we added an exception for using an alternative foam tape, in accordance with a method approved by the Manager, International Section, Transport Standards Branch, FAA; or EASA; or Airbus's EASA Design Organization Approval (DOA).

Request for Exception for Placard Installation at FR65

UAL also requested that we provide an exception to the “RC” specification associated with installation of the placard. UAL concurred with marking of modification areas to prevent de-modification, but uses a different method (marking AD areas when there is high risk of de-modification, and denoting the applicable Engineering Authorization and/or AD). UAL stated that marking the modification area in accordance with the service information does not bring awareness to technicians and that the service information may not be readily available for reference. Additionally, UAL pointed out that because the modification is a complex alteration which cannot be easily returned to the original configuration, it considers the modification to be low risk of de-modification. UAL also pointed out that Airbus has identified illustrated parts catalog (IPC) and structural repair manual (SRM) publications affected in the specified service information and that the IPC changes will identify the proper configuration between pre- and post-modification accomplishment. UAL mentioned that excepting the placard marking on FR65 from the “RC” requirement will allow operators (if they choose) to mark their applicable Engineering Authorization and/or AD instead and that applying the placard does not affect the technical intent of the modification.

We agree to include an exception for the reasons provided. In paragraph (h)(2) of this AD, we added an exception to specify that the referenced placard installation is not required by this AD.

Request To Refer to Later Revisions of the Service Information

American Airlines (AAL) requested that we delay issuance of the final rule until the manufacturer can release Revision 02 (we referred to Revision 01 in the NPRM) of Airbus Service Bulletin A320-53-1262. AAL pointed out that Revision 02 of Airbus Service Bulletin A320-53-1262 is expected to address certain discrepancies found during validation of the service information. UAL also requested that we verify that the required service information specified in the NPRM is at the latest revision level to prevent alternative method of compliance (AMOC) requests immediately following publication of the final rule.

We have verified that the required service information specified in this AD is at the latest revision level. We do not consider that delaying this action until release of the planned service information is warranted, since Revision 02 of Airbus Service Bulletin A320-53-1262 is not yet approved and we cannot allow future revisions of service information in this AD. Additionally, AAL did not provide any further details associated with the discrepancies discovered during validation. We have determined that using Revision 01 of Airbus Service Bulletin A320-53-1262 adequately addresses the identified unsafe condition. However, under the provisions of paragraph (i)(1) of this AD, we will consider requests for approval of an AMOC to allow the use of Revision 02 of Airbus Service Bulletin A320-53-1262 after issuance of the updated service information. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued the following Airbus service information:

• Airbus Service Bulletin A320-53-1262, excluding Appendix 01 and including Appendix 02, Revision 01, dated July 29, 2016;

• Airbus Service Bulletin A320-53-1333, excluding Appendix 01 and including Appendix 02, dated July 29, 2016; and

• Airbus Service Bulletin A320-53-1334, excluding Appendix 01 and including Appendixes 02 and 03, dated July 29, 2016.

The service information describes procedures for modifying the fuselage structure at FR65. These documents are distinct since they apply to different airplane configurations. This service information is reasonably available because the interested parties have access to it through their normal course of business or by the means identified in the ADDRESSES section.

Costs of Compliance

We estimate that this AD affects 1,123 airplanes of U.S. registry.

We estimate the following costs to comply with this AD:

Estimated Costs
Action | Labor cost | Parts cost | Cost per product | Cost on U.S. operators
Modification | 18 work-hours × $85 per hour = $1,530 | $16,600 | $18,130 | $20,359,990

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-06 Airbus: Amendment 39-19120; Docket No. FAA-2017-0622; Product Identifier 2016-NM-192-AD.

(a) Effective Date

This AD is effective January 16, 2018.

(b) Affected ADs

None.

(c) Applicability

This AD applies to the airplanes identified in paragraphs (c)(1), (c)(2), (c)(3), and (c)(4) of this AD, certificated in any category, all manufacturer serial numbers, except those on which Airbus Modification 153724 was embodied in production.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 53, Fuselage.

(e) Reason

This AD was prompted by reports of a vertical strut penetrating through the cabin floor during an emergency water landing and on airframe ground contact at certain speeds/accelerations. We are issuing this AD to prevent the central vertical strut at frame (FR) 65 from penetrating through the cabin floor in certain conditions, which could lead to injury of occupants and delays during an emergency evacuation.

(f) Compliance

Comply with this AD within the compliance times specified, unless already done.

(g) Modification

Except as provided by paragraphs (h)(1) and (h)(2) of this AD: Within 72 months after the effective date of this AD, modify the fuselage structure at FR65, in accordance with the Accomplishment Instructions of the applicable service bulletin specified in paragraph (g)(1), (g)(2), or (g)(3) of this AD.

(1) For Model A318 and A319 series airplanes; Model A320-211, -212, -214, -231, -232, and -233 airplanes; and Model A321-111, -112, -131, -211, -212, -213, -231, and -232 airplanes, as identified in Airbus Service Bulletin A320-53-1262, Revision 01, dated July 29, 2016: Airbus Service Bulletin A320-53-1262, excluding Appendix 01 and including Appendix 02, Revision 01, dated July 29, 2016.

(2) For Model A320-211, -212, -214, -232, and -233 airplanes, as identified in Airbus Service Bulletin A320-53-1333, dated July 29, 2016: Airbus Service Bulletin A320-53-1333, excluding Appendix 01 and including Appendix 02, dated July 29, 2016.

(3) For Model A321-211, -213, and -231 airplanes as identified in Airbus Service Bulletin A320-53-1334, dated July 29, 2016: Airbus Service Bulletin A320-53-1334, excluding Appendix 01 and including Appendixes 02 and 03, dated July 29, 2016.

(h) Service Information Exceptions

(1) Where the service bulletin specified in paragraphs (g)(1), (g)(2), or (g)(3) of this AD specifies to use ABS5006 foam tape on the new floor support beam, this AD allows the installation of an alternative foam tape, in accordance with a method approved by the Manager, International Section, Transport Standards Branch, FAA; or the European Aviation Safety Agency (EASA); or Airbus's EASA Design Organization Approval (DOA). If approved by the DOA, the approval must include the DOA-authorized signature.

(2) Where the service bulletin specified in paragraphs (g)(1), (g)(2), or (g)(3) of this AD specifies to install a placard at FR65, that placard installation is not required by this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as specified in paragraph (h) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA AD 2016-0212, dated October 25, 2016, for related information. This MCAI may be found in the AD docket on the Internet at http://www.regulations.gov by searching for and locating Docket No. FAA-2017-0622.

(2) For more information about this AD, contact Sanjay Ralhan, Aerospace Engineer, International Section, Transport Standards Branch, FAA, 1601 Lind Avenue SW., Renton, WA 98057-3356; telephone: 425-227-1405; fax: 425-227-1149.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1262, excluding Appendix 01 and including Appendix 02, Revision 01, dated July 29, 2016.

(ii) Airbus Service Bulletin A320-53-1333, excluding Appendix 01 and including Appendix 02, dated July 29, 2016.

(iii) Airbus Service Bulletin A320-53-1334, excluding Appendix 01 and including Appendixes 02 and 03, dated July 29, 2016.

(3) For service information identified in this AD, contact Airbus, Airworthiness Office-EIAS, 1 Rond Point Maurice Bellonte, 31707 Blagnac Cedex, France; telephone: +33 5 61 93 36 96; fax: +33 5 61 93 44 51; email: account.airworth-eas@airbus.com; Internet: http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 16, 2017.
Chris Spangenberg,
Acting Director, System Oversight Division, Aircraft Certification Service.

[FR Doc. 2017-26260 Filed 12-8-17; 8:45 am]

BILLING CODE 4910-13-P